ENVIRONMENTAL PROTECTION AGENCY

40 CFR Part 52

[EPA-R08-OAR-2013-0814; FRL-9921-53-Region 8]

Approval and Promulgation of Air Quality Implementation Plan; State of Colorado; Second Ten-Year PM10 Maintenance Plan for Steamboat Springs

AGENCY: Environmental Protection Agency.

ACTION: Proposed rule.

SUMMARY: The Environmental Protection Agency (EPA) is proposing approval of the State Implementation Plan (SIP) revisions submitted by the State of Colorado. On May 11, 2012, the designee of the Governor of Colorado submitted to EPA a revised maintenance plan for the Steamboat Springs area for the National Ambient Air Quality Standards (NAAQS) for particulate matter with an aerodynamic diameter less than or equal to 10 microns (PM10). The SIP was adopted by the State on December 15, 2011. As required by Clean Air Act (CAA) section 175A, this revised maintenance plan addresses maintenance of the PM10 standard for a second 10-year period beyond the area's original redesignation to attainment for the PM10 NAAQS. In addition, EPA is proposing approval of the revised maintenance plan's 2024 transportation conformity motor vehicle emissions budget for PM10. This action is being taken under sections 110 and 175A of the CAA.

DATES: Written comments must be received on or before February 20, 2015.

ADDRESSES: Submit your comments, identified by Docket number EPA-R08-OAR-2013-0814, by one of the following methods:

• http://www.regulations.gov. Follow the on-line instructions for submitting comments.

• Email: ostigaard.crystal@epa.gov.

• Fax: (303) 312-6064 (please alert the individual listed in the FOR FURTHER INFORMATION CONTACT if you are faxing comments).

• Mail: Carl Daly, Director, Air Program, U.S. Environmental Protection Agency (EPA), Region 8, Mailcode 8P-AR, 1595 Wynkoop Street, Denver, Colorado 80202-1129.

• Hand Delivery: Carl Daly, Director, Air Program, U.S. Environmental Protection Agency (EPA), Region 8, Mailcode 8P-AR, 1595 Wynkoop Street, Denver, Colorado 80202-1129. Such deliveries are only accepted Monday through Friday, 8:00 a.m. to 4:30 p.m., excluding federal holidays. Special arrangements should be made for deliveries of boxed information.

Please see the direct final rule, which is located in the Rules section of this Federal Register for detailed instruction on how to submit comments.

FOR FURTHER INFORMATION CONTACT: Crystal Ostigaard, Air Program, U.S. Environmental Protection Agency, Region 8, Mailcode 8P-AR, 1595 Wynkoop Street, Denver, Colorado 80202-1129, (303) 312-6602, ostigaard.crystal@epa.gov.

SUPPLEMENTARY INFORMATION: In the Rules section of this Federal Register, the EPA is approving the State's SIP revision through a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. Then, EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment. See the information provided in the direct final action of the same title which is located in the Rules section of this Federal Register.

List of Subjects in 40 CFR Part 52

Environmental protection, Air pollution control, PM10, Incorporation by reference, Intergovernmental relations, Particulate matter, Reporting and recordkeeping requirements.

Authority: 42 U.S.C. 7401 et seq

Dated: December 17, 2014.
Shaun L. McGrath,
Regional Administrator.

[FR Doc. 2015-00778 Filed 1-20-15; 8:45 am]

BILLING CODE 6560-50-P